DEPARTMENT OF COMMERCE

National Oceanic and Atmospheric Administration

[RTID 0648-XC519]

Marine Mammals; File No. 27033

AGENCY: National Marine Fisheries Service (NMFS), National Oceanic and Atmospheric Administration (NOAA), Commerce.

ACTION: Notice; receipt of application.

SUMMARY: Notice is hereby given that Underdogs Films, Ltd., 4th Floor Embassy House, Queen's Avenue, Bristol, BS8 1SB, United Kingdom (Tom Stephens, Principal Investigator), has applied in due form for a permit to conduct commercial or educational photography on Northern elephant seals (Mirounga angustirostris).

DATES: Written, telefaxed, or email comments must be received on or before December 8, 2022.

ADDRESSES: These documents are available upon written request via email to NMFS.Pr1Comments@noaa.gov.

Written comments on this application should be submitted via email to NMFS.Pr1Comments@noaa.gov. Please include File No. 27033 in the subject line of the email comment.

Those individuals requesting a public hearing should submit a written request via email to NMFS.Pr1Comments@noaa.gov. The request should set forth the specific reasons why a hearing on this application would be appropriate.

FOR FURTHER INFORMATION CONTACT: Jennifer Skidmore and Sara Young, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film Northern elephant seals exhibiting wild behavior during their breeding season at the Año Nuevo State Reserve beaches. Filmmakers would conduct ground- based filming via tripod, gimbal, and remote vehicle, as well as aerial filming via vertical take-off and landing unmanned aircraft system. Up to 2,300 elephant seals, 115 harbor seals (Phoca vitulina), and 115 northern fur seals (Callorhinus ursinus) may be harassed during filming. Filming would occur for no more than 23 days in January and February of 2023. The permit would be valid until February 28, 2023.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: November 2, 2022.
Amy Sloan,
Acting Chief, Permits and Conservation Division, Office of Protected Resources, National Marine Fisheries Service.

[FR Doc. 2022-24294 Filed 11-7-22; 8:45 am]

BILLING CODE 3510-22-P